SMALL BUSINESS ADMINISTRATION

[Declaration of Disaster #3537]

State of Mississippi

Lee County and the contiguous counties Chickasaw, Itawamba, Monroe, Pontotoc, Prentiss and Union in the State of Mississippi constitute a disaster area due to damages caused by severe storms and flooding that occurred on August 6, 2003. Applications for loans for physical damage as a result of this disaster may be filed until the close of business on October 20, 2003 and for economic injury until the close of business on May 20, 2004 at the address listed below or other locally announced locations: Small Business Administration, Disaster Area 2 Office, One Baltimore Place, Suite 300, Atlanta, GA 30308.

The interest rates are:

| Percent
For Physical Damage:
Homeowners with Credit Available Elsewhere | 5.125
Homeowners without Credit Available Elsewhere | 2.562
Businesses with Credit Available Elsewhere | 6.199
Businesses and Non-Profit Organizations without Credit Available Elsewhere | 3.100
Others (Including Non-Profit Organizations) with Credit Available Elsewhere | 5.500
For Economic Injury:
Businesses and Small Agricultural Cooperatives without Credit Available Elsewhere | 3.100

The number assigned to this disaster for physical damage is 353711 and the number for economic injury is 9W7200.

(Catalog of Federal Domestic Assistance Program Nos. 59002 and 59008)
Dated: August 20, 2003.
Hector V. Barreto,
Administrator.

[FR Doc. 03-22013 Filed 8-27-03; 8:45 am]

BILLING CODE 8025-01-P